DEPARTMENT OF DEFENSE

Office of the Secretary

[Docket ID: DoD-2021-OS-0056]

Submission for OMB Review; Comment Request

AGENCY: Office of the Under Secretary of Defense for Personnel and Readiness, Department of Defense (DoD).

ACTION: Information collection notice.

SUMMARY: Consistent with the Paperwork Reduction Act of 1995 and its implementing regulations, this document provides notice DoD is submitting an Information Collection Request to OMB to collect information on establishing an understanding of the beliefs and attitudes of active component mid-grade (O-4 to O-6) and junior officers (O-2 to O-3) toward diversity and inclusion (D&I), retention and promotion, and specifically any perceived differences of retention and promotion related to race, ethnicity, and gender. The study will identify potential and existing factors that serve as barriers which may affect such differences in retention and promotion to inform D&I policies, programs, and procedures.

DATES: Comments must be received by July 16, 2021.

ADDRESSES: The Department has requested emergency processing from OMB for this information collection request by 15 days after publication of this notice. Interested parties can access the supporting materials and collection instrument and submit comments and recommendations to OMB at www.reginfo.gov/public/do/PRAMain. Find this particular information collection by selecting “Currently under 15-day Review—Open for Public Comments” or by using the search function. Comments submitted in response to this notice will be summarized and included in the request for OMB approval of this information collection. They will also become a matter of public record.

FOR FURTHER INFORMATION CONTACT: Angela Duncan, 571-372-7574, or whs.mc-alex.esd.mbx.dd-dod-information-collections@mail.mil.

SUPPLEMENTARY INFORMATION: The Officer Retention and Promotion Barrier Analysis is a qualitative study which will include virtual interviews and focus groups with active component mid-grade and junior officers from Army, Navy, Air Force, and Marine Corps to examine their beliefs and attitudes toward D&I, retention and promotion, and specifically any perceived differences of retention and promotion related to race, ethnicity, and gender. The study will identify potential and existing factors that serve as barriers which may affect such differences in retention and promotion. The study will assess topics related to retention and promotion such as career progression and mentorship, leadership, workplace climate and culture, and work-life balance. The Office of Diversity, Equity, and Inclusion (ODEI) will analyze data in aggregate and provide key themes that emerge. In order to meet reporting requirements per the Fiscal Year (FY) 2021 National Defense Authorization Act (NDAA), the study needs to begin in FY 2021 and completed by FY 2022. As required by the NDAA, the study will identify barriers to diversity to assist in developing and implementing plans and processes to resolve or eliminate any barriers to diversity, and reviewing the progress of the Services in implementing previous plans and processes to resolve or eliminate barriers to diversity.

Title; Associated Form; and OMB Number: Officer Retention and Promotion Barrier Analysis; OMB Control Number 0704-ORPB.

Type of Request: Emergency.

Number of Respondents: The study will include 340 respondents (total of 20 interview respondents and 320 focus group participants).

Responses per Respondent: 1.

Annual Responses: 340.

Average Burden per Response: Interviews will require 60 minutes per response. Focus groups will require 90 minutes per response.

Annual Burden Hours: The total annual amount of burden hours for interviews is 20 hours. The total amount of annual burden for focus groups is 480 hours. The total annual burden hours are 500.

Affected Public: Individuals or households.

Frequency: Once.

Respondent's Obligation: Voluntary.

Request for Comments: Comments are invited on: (1) Whether the proposed collection of information is necessary for the proper performance of the functions of DoD, including whether the information collected has practical utility; (2) the accuracy of DoD's estimate of the burden (including hours and cost) of the proposed collection of information; (3) ways to enhance the quality, utility, and clarity of the information to be collected; and (4) ways to minimize the burden of the collection of information on respondents, including automated collection techniques or the use of other forms of information technology.

Dated: June 28, 2021.
Kayyonne T. Marston,
Alternate OSD Federal Register Liaison Officer, Department of Defense.

[FR Doc. 2021-14075 Filed 6-30-21; 8:45 am]

BILLING CODE 5001-06-P